DEPARTMENT OF HEALTH AND HUMAN SERVICES

Administration for Children and Families

Agency Recordkeeping/Reporting Requirements Under Emergency Review by the Office of Management and Budget (OMB)

Title: Strengthening Communities Fund Program Evaluation.

OMB No.: New Collection.

Description: This proposed information collection activity is to obtain evaluation information from Strengthening Communities Fund (SCF) grantees. Grantees include participants in two SCF grant programs contributing to the economic recovery as authorized in the American Recovery and Reinvestment Act of 2009 (ARRA). The SCF evaluation is an important opportunity to examine the outcomes achieved by the Strengthening Communities Fund in meeting its objective of improving the capacity of grantees that include Nonprofit organizations and State, Local and Tribal Governments. The evaluation for each program will be designed to assess progress and measure increased organizational capacity of grantees in each of the two SCF programs. The purpose of this request will be to establish the approved baseline instruments for follow-up data collection.

Respondents: SCF Grantees (both the Nonprofit Capacity Building Program and the Government Capacity Building Program) made up of State, local, and Tribal governments, as well as nonprofit organizations.

Annual Burden Estimates
Instrument | Number of respondents | Number of responses per respondent | Average burden hours per response | Total burden hours
Nonprofit Capacity Building Program Performance Progress Report (PPR) | 35 | 4 | 1 | 140
Government Capacity Building PPR | 49 | 4 | 1 | 196

Estimated Total Annual Burden Hours: 336.

Additional Information

ACF is requesting that OMB grant a 180 day approval for this information collection under procedures for emergency processing by April 15, 2010. A copy of this information collection, with applicable supporting documentation, may be obtained by calling the Administration for Children and Families, Reports Clearance Officer, Robert Sargis at (202) 690-7275.

Comments and questions about the information collection described above should be directed to the Office of Information and Regulatory Affairs, Attn: OMB Desk Officer for ACF, Office of Management and Budget, Paperwork Reduction Project, 725 17th Street, NW., Washington, DC 20503, FAX (202) 395-6974.

Robert Sargis,
Reports Clearance Officer.

[FR Doc. 2010-8251 Filed 4-12-10; 8:45 am]

BILLING CODE 4184-01-M